DEPARTMENT OF THE INTERIOR

Bureau of Land Management

[ID-080-1210-XG]

Address Change for Salmon, Idaho Office

AGENCY: Bureau of Land Management, Upper Columbia-Salmon Clearwater District, Idaho, Interior.

ACTION: Notice of address change for Salmon, Idaho office.

SUMMARY: The Bureau of Land Management (BLM) will be moving into new office space in Salmon, Idaho effective October 2, 2000. The office will be located in the current Salmon-Challis National Forest building. The new address for BLM will be Rural Route 2, Box 600, Salmon, Idaho 83467. Also effective October 2, 2000, the main telephone number for BLM's Salmon office will be changed to 208-756-5100. Phone numbers for individual employees will be unchanged.

FOR FURTHER INFORMATION CONTACT: Jenifer Arnold (208) 769-5000.

Dated: August 18, 2000.
Ted Graf,
Acting District Manager.

[FR Doc. 00-21607 Filed 8-23-00; 8:45 am]

BILLING CODE 4310-66-M